DEPARTMENT OF COMMERCE

Economic Development Administration

[Docket No. 090227253-9254-01]

Solicitation of Applications for the FY 2009 EDA American Recovery Program Pursuant to the American Recovery and Reinvestment Act of 2009, Public Law 111-5, 123 Stat. 115 (2009)

AGENCY: Economic Development Administration (EDA), Department of Commerce.

ACTION: Notice and request for applications.

SUMMARY: Pursuant to the American Recovery and Reinvestment Act of 2009, EDA announces general policies and application procedures for grant-based investments for the EDA American Recovery Program under the auspices of the Public Works and Economic Development Act of 1965, as amended, that will promote comprehensive, entrepreneurial and innovation-based economic development efforts to enhance the competitiveness of regions, resulting in increased private investment and higher-skill, higher-wage jobs in regions that have experienced sudden and severe economic dislocation and job loss due to corporate restructuring.

DATES: Applications are accepted on a continuing basis and processed as received. Applications may be submitted electronically in accordance with the instructions provided at http://www.grants.gov or mailed to the applicable EDA regional office listed below under “Addresses and Telephone Numbers for EDA's Regional Offices.”

Application Submission Requirements: Applicants are advised to read carefully the instructions contained in section IV of the complete Federal funding opportunity (FFO) announcement for this request for applications. To access the FFO announcement, please see the Web sites listed below under “Electronic Access.”

On October 1, 2008, EDA published a notice in the Federal Register (73 FR 57049) to introduce its new, streamlined Application for Investment Assistance (Form ED-900), which consolidates all EDA-specific requirements into a single application form. EDA will continue to require additional government-wide Federal grant assistance forms from the Standard Form (SF) 424 family and certain Department of Commerce (CD) forms as part of the application package. The specific SF forms required with the Form ED-900 depend on whether the applicant seeks construction or non-construction assistance.

Applicants seeking assistance for a project with construction components are required to complete and submit the following:

(i) Form ED-900 (Application for Investment Assistance);

(ii) Form SF-424 (Application for Federal Assistance);

(iii) Form SF-424C (Budget Information—Construction Programs);

(iv) Form SF-424D (Assurances—Construction Programs); and

(v) Form CD-511 (Certification Regarding Lobbying).

Applicants seeking assistance for a project without construction components are required to complete and submit the following forms:

(i) Form ED-900 (Application for Investment Assistance);

(ii) Form SF-424 (Application for Federal Assistance);

(iii) Form SF-424A (Budget Information—Non-Construction Programs);

(iv) Form SF-424B (Assurances—Non-Construction Programs); and

(v) Form CD-511 (Certification Regarding Lobbying).

Applicants for both construction and non-construction assistance may be required to submit to an individual background screening on the form titled Applicant for Funding Assistance (Form CD-346) and to provide certain lobbying information using the form titled Disclosure of Lobbying Activities (Form SF-LLL). The Form ED-900 provides detailed guidance to help the applicant assess whether Forms CD-346 and SF-LLL are required and how to access them.

Content and Form of the Form ED-900: The applicant is advised to read carefully the instructions contained in this notice, the complete FFO announcement, and all forms contained in the appropriate application package. It is the sole responsibility of the applicant to ensure that the appropriate application package is complete and received by EDA.

The Form ED-900 is divided into lettered sections that correspond to specific EDA program components that address all of EDA's statutory and regulatory requirements. Based on the program under which the applicant seeks assistance, the following table details the sections and exhibits in the Form ED-900 that the applicant must complete. Under this notice and request for applications, EDA will consider applications for funding under its Public Works and Economic Adjustment Assistance programs only. This table also is provided on the first page of Section A to Form ED-900.

EDA program | Required Form ED-900 sections
Public Works | Complete Sections A, B, and M and Exhibits A, D and E.
Economic Adjustment | Complete Sections A, B, and K and Exhibit C. Also complete Sections M and Exhibits A, D, and E if request has construction components, and Section N if the request has only design/engineering requirements. Complete Section E if the request has no construction components.
Revolving Loan Fund | Complete Sections A, B, E, K, and L and Exhibit C.
Design and Engineering | Complete Sections A, B, and N and Exhibit C.

Addresses and Telephone Numbers for EDA's Regional Offices: Applicants eligible for assistance under this notice may request paper (hardcopy) application packages by contacting the applicable EDA regional office servicing your geographic area listed below. Alternatively, applicants may obtain the application packages electronically at http://www.grants.gov. All components of the appropriate application package may be accessed and downloaded (in a screen-fillable format) at http://www.grants.gov/applicants/apply_for_grants.jsp.

Economic Development Administration, Atlanta Regional Office, 401 West Peachtree Street, NW., Suite 1820, Atlanta, Georgia 30308.

Telephone: (404) 730-3002, Fax: (404) 730-3025.

Serves: Alabama, Florida, Georgia, Kentucky, Mississippi, North Carolina, South Carolina and Tennessee.

Economic Development Administration, Austin Regional Office, 504 Lavaca Street, Suite 1100, Austin, Texas 78701.

Telephone: (512) 381-8144, Fax: (512) 381-8177.

Serves: Arkansas, Louisiana, New Mexico, Oklahoma and Texas.

Economic Development Administration, Chicago Regional Office, 111 North Canal Street, Suite 855, Chicago, Illinois 60606.

Telephone: (312) 353-7706, Fax: (312) 353-8575.

Serves: Illinois, Indiana, Michigan, Minnesota, Ohio, Wisconsin and Muscatine and Scott counties, Iowa.

Economic Development Administration, Denver Regional Office, 410 17th Street, Suite 250, Denver, Colorado 80202.

Telephone: (303) 844-4714, Fax: (303) 844-3968.

Serves: Colorado, Iowa (excluding Muscatine and Scott counties), Kansas, Missouri, Montana, Nebraska, North Dakota, South Dakota, Utah and Wyoming.

Economic Development Administration, Philadelphia Regional Office, Curtis Center, 601 Walnut Street, Suite 140 South, Philadelphia, Pennsylvania 19106.

Telephone: (215) 597-4603, Fax: (215) 597-1063.

Serves: Connecticut, Delaware, District of Columbia, Maine, Maryland, Massachusetts, New Hampshire, New Jersey, New York, Pennsylvania, Puerto Rico, Rhode Island, Vermont, U.S. Virgin Islands, Virginia and West Virginia.

Economic Development Administration, Seattle Regional Office, Jackson Federal Building, Room 1890, 915 Second Avenue, Seattle, Washington 98174.

Telephone: (206) 220-7660, Fax: (206) 220-7669.

Serves: Alaska, American Samoa, Arizona, California, Guam, Hawaii, Idaho, Republic of Marshall Islands, Federated States of Micronesia, Nevada, Northern Mariana Islands, Oregon, Republic of Palau and Washington.

Alternatively, applicants may obtain the application package electronically at http://www.grants.gov. All components of the appropriate application package may be accessed and downloaded (in a screen-fillable format) at http://www.grants.gov/applicants/apply_for_grants.jsp.

Application Submission Formats: Applications may be submitted either (i) in paper (hardcopy) format to the applicable regional office address provided above; or (ii) electronically in accordance with the procedures provided at http://www.grants.gov. The content of applications is the same for paper submissions as it is for electronic submissions. EDA will not accept facsimile transmissions of applications.

Paper Submissions: An eligible applicant under this notice may submit a completed paper application to the applicable EDA regional office listed above. The applicant must submit one original and two copies of the appropriate completed application package via postal mail, shipped overnight, or hand-delivered to the applicable regional office, unless otherwise directed by EDA staff. Department of Commerce mail security measures may delay receipt of United States Postal Service mail for up to two weeks. Therefore, applicants who submit paper submissions are advised to use guaranteed overnight delivery services.

Electronic Submissions: Applicants are encouraged to submit applications electronically in accordance with the instructions provided at http://www.grants.gov. The preferred file format for electronic attachments is portable document format (PDF); however, EDA will accept electronic files in Microsoft Word, WordPerfect, or Microsoft Excel formats. EDA advises that applicants not wait until the application closing date to begin the application process through http://www.grants.gov. Validation or rejection of your application by http://www.grants.gov may take additional days after your submission. Therefore, please consider the http://www.grants.gov validation/rejection process in developing your application submission time line.

Applicants should access the following link for assistance in navigating http://www.grants.gov and for a list of useful resources: http://www.grants.gov/applicants/applicant_help.jsp. If you do not find an answer to your question under Frequently Asked Questions, try consulting the Applicant's User Guide. If you still cannot find an answer to your question, contact http://www.grants.gov via e-mail at support@grants.gov or telephone at 1-800-518-4726. The hours of operation for http://www.grants.gov are Monday-Friday, 7 a.m. to 9 p.m. (Eastern Time) (except for Federal holidays).

FOR FURTHER INFORMATION CONTACT: For additional information or for a paper copy of the complete FFO announcement for the FY 2009 EDA American Recovery Program, contact the appropriate EDA regional office listed above under “Addresses and Telephone Numbers for EDA's Regional Offices.” EDA's Internet Web site at http://www.eda.gov also contains additional information on EDA and its programs.

SUPPLEMENTARY INFORMATION: Electronic Access: The FY 2009 EDA American Recovery Program FFO announcement is available at http://www.grants.gov and at http://www.eda.gov/InvestmentsGrants/FFON.xml.

Background Information on the EDA American Recovery Program: Under this notice, EDA requests applications for the EDA American Recovery Program under the auspices of the Public Works and Economic Development Act of 1965, as amended (42 U.S.C. 3121 et seq.) (PWEDA). EDA will give priority consideration to those applications that will significantly benefit regions “that have experienced sudden and severe economic dislocation and job loss due to corporate restructuring,” as stipulated under the American Recovery and Reinvestment Act of 2009, Public Law 111-5, 123 Stat. 115 (2009) (Recovery Act or ARRA). EDA provides financial assistance to distressed communities in both urban and rural regions. Such distress may exist in a variety of forms, including high levels of unemployment, low income levels, large concentrations of low-income families, significant declines in per capita income, large numbers (or high rates) of business failures, sudden major layoffs or plant closures, trade impacts, military base closures, natural or other major disasters, depletion of natural resources, reduced tax bases, or substantial loss of population because of the lack of employment opportunities. EDA's experience has shown that regional economic development to help alleviate these conditions is effected primarily through investments and decisions made by the private sector. EDA will give preference to applications that include cash contributions (over in-kind contributions) as the matching share. See “Cost Sharing Requirement” below for more detailed information.

Under the American Recovery Program, EDA will help restore, replace and expand economic activity in regions that have experienced sudden and severe economic dislocation and job loss due to corporate restructuring, and prioritize projects that will diversify the economic base and lead to a stronger, more globally competitive and resilient regional economy. EDA's economic development activities help create jobs by encouraging business inception and growth.

EDA will evaluate and select applications according to the investment policy guidelines and funding priorities set out below under “Evaluation and Selection Procedures.” The Recovery Act stipulates the following specific requirements with respect to any funds expended or obligated from appropriations made thereunder.

1. Limit on Use of Funds. For purposes of this notice and request for applications, none of the funds appropriated or otherwise made available under ARRA may be used by any State or local government, or any private entity, for any casino or other gambling establishment, aquarium, zoo, golf course, or swimming pool. See sec. 1604 of ARRA.

2. Certification Requirement. Sec. 1511 mandates that with respect to any funds made available under ARRA to State or local governments for infrastructure investments, the Governor, mayor, or other chief executive, as appropriate, must certify that the infrastructure investment has received the full review and vetting required by law and that the chief executive accepts responsibility that the infrastructure investment is an appropriate use of taxpayer dollars. This certification must include a description of the investment, the estimated total cost, and the amount of funds to be used, and must be posted on the recipient's Web site and linked to http://www.recovery.gov/. A State or local agency cannot receive infrastructure investment funding from funds made available under ARRA unless this certification is made and posted. See also sec. 1526 of ARRA.

3. As set out in sec. 1512(c) of ARRA, no later than ten (10) days after the end of each calendar quarter, any recipient that received funds under ARRA from EDA must submit a report to EDA that contains:

a. The total amount of recovery funds received from EDA;

b. The amount of recovery funds received that were expended or obligated to projects or activities;

c. A detailed list of all projects or activities for which recovery funds were expended or obligated; and

d. Detailed information on any subcontracts or subgrants awarded by the recipient to include the data elements required to comply with the Federal Funding Accountability and Transparency Act of 2006 (Pub. L. No. 109-282), allowing aggregate reporting on awards below $25,000 or to individuals, as prescribed by the Director of the Office of Management and Budget.

Recipients that must report information in accordance with paragraph (d) above must register with the Central Contractor Registration database (http://www.ccr.gov/) or complete other registration requirements as determined by the Director of the Office of Management and Budget. Sec. 1512(d) further requires that no later than thirty (30) days after the end of each calendar quarter, EDA must make the information in reports submitted under sec. 1512(c) of ARRA as outlined above publicly available by posting the information on a Web site. OMB Memo M-09-10, “Initial Implementing Guidance for the American Recovery and Reinvestment Act of 2009,” which can be accessed at http://www.recovery.gov/, provides additional information on requirements for Federal agencies under ARRA.

4. Timely Start and Completion of Projects. In using funds made available under ARRA for infrastructure investments, recipients must give preference to activities that can be started and completed expeditiously, including a goal of using at least 50 percent of the funds for activities that can be initiated not later than 120 days after the date of the enactment of the Act, which was February 17, 2009. Recipients of EDA investment assistance under this announcement also must use grant funds in a manner that maximizes job creation and economic benefit. See sec. 1602 of ARRA.

5. “Buy American” Restrictions. Sec. 1605(a) stipulates that any ARRA-funded project “for the construction, alteration, maintenance, or repair of a public building or public work [must use] iron, steel, and manufactured goods * * * produced in the United States.” The legislation allows for a waiver of this requirement if EDA determines that:

a. Applying the requirement would be inconsistent with the public interest;

b. Iron, steel, and the relevant manufactured goods are not produced in the United States in sufficient and reasonably available quantities and of a satisfactory quality; or

c. The inclusion of iron, steel, and manufactured goods produced in the United States will increase the cost of the overall project by more than 25 percent.

EDA must publish a “detailed written justification” as to why the requirement in sec. 1605(a) is being waived based on a finding under paragraphs (a), (b) or (c) above.

6. Davis-Bacon Wage Rate Requirements. As with all EDA investments in public works, economic adjustment assistance, and revolving loan fund (RLF) projects that finance construction, awards under this competitive solicitation will be subject to Davis-Bacon wage rate requirements. See section 602 of PWEDA (42 U.S.C. 3212) and sec. 1606 of ARRA.

Funding Availability: The Recovery Act appropriated $150,000,000 for the EDA American Recovery Program under the auspices of PWEDA. These funds shall remain available for obligation until September 30, 2010. The law mandates that $50,000,000 of the $150,000,000 must be allocated for economic adjustment assistance under section 209 of PWEDA (42 U.S.C. 3149). EDA will allocate the remaining $100,000,000 to either the Public Works and Economic Development Facilities Program or the Economic Adjustment Assistance Program, depending on the needs demonstrated among EDA's six regional offices, located in Atlanta, Austin, Chicago, Denver, Philadelphia and Seattle. Federally authorized regional economic development commissions may assist eligible applicants in submitting applications under this notice or may seek transfers directly from EDA.

The funding periods and funding amounts referenced in this notice and request for applications are subject to the availability of funds at the time of award, as well as to Department of Commerce and EDA priorities at the time of award. The Department of Commerce and EDA will not be held responsible for application preparation costs. Publication of this FFO does not obligate the Department of Commerce or EDA to award any specific grant or cooperative agreement or to obligate all or any part of available funds.

Statutory Authority: The statutory authorities for the (i) Public Works and Economic Development Facilities Program; and (ii) Economic Adjustment Assistance Program are sections 201 (42 U.S.C. 3141) and 209 (42 U.S.C. 3149) of PWEDA, respectively. Unless otherwise provided in this notice or in the FFO announcement, applicant eligibility, program objectives and priorities, application procedures, evaluation criteria, selection procedures, and other requirements for all programs are set forth in EDA's regulations (codified at 13 CFR chapter III), and applicants must adhere to these requirements. EDA's regulations and PWEDA are available at http://www.eda.gov/InvestmentsGrants/Lawsreg.xml. Please note that EDA funds may not be used directly or indirectly to reimburse any attorneys' or consultants' fees incurred in connection with obtaining investment assistance under this notice and request for applications. See 13 CFR 302.10.

Catalog of Federal Domestic Assistance (CFDA) Numbers: 11.300, Investments for Public Works and Economic Development Facilities; 11.307, Economic Adjustment Assistance.

Applicant Eligibility: Pursuant to PWEDA, eligible applicants for and eligible recipients of EDA investment assistance under this announcement include a(n): (i) District Organization; (ii) Indian Tribe or a consortium of Indian Tribes; (iii) State, city or other political subdivision of a State, including a special purpose unit of a State or local government engaged in economic or infrastructure development activities, or a consortium of political subdivisions; (iv) institution of higher education or a consortium of institutions of higher education; or (v) public or private non-profit organization or association acting in cooperation with officials of a political subdivision of a State. See section 3 of PWEDA (42 U.S.C. 3122) and 13 CFR 300.3.

For-profit, private-sector entities and individuals do not qualify for investment assistance under the Public Works or Economic Adjustment Assistance programs, which are the EDA programs applicable to this notice and request for applications. Therefore, requests from for-profit entities and individuals may be referred to State or local agencies, or to non-profit economic development organizations serving the region in which the project will be located.

Economic Distress Criteria: Potential applicants are responsible for demonstrating to EDA, by providing statistics and other appropriate information, the nature and level of economic distress in the region in which the proposed project will be located. For a Public Works (13 CFR part 305; CFDA No. 11.300) or an Economic Adjustment investment (13 CFR part 307; CFDA No. 11.307), the project must be located in a region that, on the date EDA receives the application for investment assistance, meets one (or more) of the following economic distress criteria: (i) An unemployment rate that is, for the most recent twenty-four (24) month period for which data are available, at least one (1) percentage point greater than the national average unemployment rate; (ii) per capita income that is, for the most recent period for which data are available, eighty (80) percent or less of the national average per capita income; or (iii) a “Special Need,” as determined by EDA and as discussed in section VII. of the FFO announcement. See section 301 of PWEDA (42 U.S.C. 3161) and 13 CFR 301.3(a).

Cost Sharing Requirement: Generally, the amount of the EDA grant may not exceed fifty (50) percent of the total cost of the project. Projects may receive an additional amount that shall not exceed thirty (30) percent, based on the relative needs of the region in which the project will be located, as determined by EDA. See section 204(a) of PWEDA (42 U.S.C. 3144) and 13 CFR 301.4(b)(1).

In the case of EDA investment assistance to a(n) (i) Indian Tribe, (ii) State (or political subdivision of a State) that the Assistant Secretary determines has exhausted its effective taxing and borrowing capacity, or (iii) non-profit organization that the Assistant Secretary determines has exhausted its effective borrowing capacity, the Assistant Secretary has the discretion to establish a maximum EDA investment rate of up to one hundred (100) percent of the total project cost. See sections 204(c)(1) and (2) of PWEDA (42 U.S.C. 3144) and 13 CFR 301.4(b)(5). Potential applicants should contact the appropriate EDA regional office listed above under “Addresses and Telephone Numbers for EDA's Regional Offices” to present information for EDA's consideration.

While cash contributions are preferred, in-kind contributions, consisting of contributions of space, equipment, or services, or forgiveness or assumptions of debt, may provide the required non-Federal share of the total project cost. See section 204(b) of PWEDA (42 U.S.C. 3144). EDA will fairly evaluate all in-kind contributions, which must be eligible project costs and meet applicable Federal cost principles and uniform administrative requirements. Funds from other Federal financial assistance awards are considered matching share funds only if authorized by statute, which may be determined by EDA's reasonable interpretation of the statute. See 13 CFR 300.3. The applicant must show that the matching share is committed to the project for the project period, will be available as needed and is not conditioned or encumbered in any way that precludes its use consistent with the requirements of EDA investment assistance. See 13 CFR 301.5.

Intergovernmental Review: Applications for assistance under EDA's programs are subject to the State review requirements imposed by Executive Order 12372, “Intergovernmental Review of Federal Programs.” To find out more about a State's process under Executive Order 12372, applicants may contact their State's Single Point of Contact (SPOC). Names and addresses of some States' SPOCs are listed at http://www.whitehouse.gov/omb/grants/spoc.html.

Evaluation and Selection Procedures: Each application package is circulated by a project officer within the applicable EDA regional office for review and comments. After all necessary information has been obtained, the application is considered by the regional office's investment review committee (IRC), which is comprised of regional office staff. The IRC discusses the application and evaluates it on two levels to (i) determine if it meets the program-specific award and application requirements provided in 13 CFR 305.2 for Public Works investments, or 13 CFR 307.2 and 307.4 for Economic Adjustment Assistance; and (ii) evaluate each application using the general evaluation criteria set out in 13 CFR 301.8. These general evaluation criteria also are provided below under “Evaluation Criteria.”

The IRC recommends to the Regional Director whether an application merits further consideration, documenting its recommendation. For quality control assurance, EDA Headquarters reviews the IRC's analysis of the project's fulfillment of the investment policy guidelines set out below under “Evaluation Criteria.” After receiving quality control clearance, the Selecting Official, who is the Regional Director, considers the evaluations provided by the IRC and the degree to which one or more of the funding priorities provided below are included, in making a decision as to which applications merit further consideration.

To limit the burden on the applicant, EDA requests additional documentation only if EDA determines that the applicant's project merits further consideration. The Form ED-900 provides detailed guidance on documentation, information, and other materials that will be requested if, and only if, EDA selects the project for further consideration. EDA will inform the applicant if its application has been selected for further consideration or if the application has not been selected for funding. Unsuccessful applications will be retained in the EDA regional office in accordance with EDA's record retention schedule.

Evaluation Criteria: EDA will select applications competitively based on the investment policy guidelines and funding priority considerations listed below. EDA will evaluate the extent to which a project embodies the maximum number of investment policy guidelines and funding priorities possible and strongly exemplifies at least one of each. All investment applications will be competitively evaluated primarily on their ability to satisfy one (1) or more of the following investment policy guidelines, each of which are of equivalent weight and also are set forth in 13 CFR 301.8.

1. Be market-based and results driven. An EDA investment will capitalize on a region's competitive strengths and will positively move a regional economic indicator measured on EDA's Balanced Scorecard, such as: An increased number of higher-skill, higher-wage jobs; increased tax revenue; or increased private sector investment.

2. Have strong organizational leadership. An EDA investment will have strong leadership, relevant project management experience, and a significant commitment of human resources talent to ensure a project's successful execution.

3. Advance productivity, innovation and entrepreneurship. An EDA investment will embrace the principles of entrepreneurship, enhance regional industry clusters, and leverage and link technology innovators and local universities to the private sector to create the conditions for greater productivity, innovation, and job creation.

4. Look beyond the immediate economic horizon, anticipate economic changes, and diversify the local and regional economy. An EDA investment will be part of an overarching, long-term comprehensive economic development strategy that enhances a region's success in achieving a rising standard of living by supporting existing industry clusters, developing emerging new clusters, or attracting new regional economic drivers.

5. Demonstrate a high degree of local commitment by exhibiting:

• High levels of local government or non-profit matching funds and private sector leverage;

• Clear and unified leadership and support by local elected officials; and

• Strong cooperation between the business sector, relevant regional partners and local, State and Federal governments.

Funding Priorities: Priority consideration will be given to areas of the Nation that have experienced sudden and severe economic dislocation and job loss due to corporate restructuring. In addition, successful applications must meet one or more of the following core criteria (investment applications that meet more than one core criterion will be given more favorable consideration):

1. Investments in support of long-term, coordinated and collaborative regional economic development approaches:

• Establish comprehensive regional economic development strategies that identify promising opportunities for long-term economic growth.

• Exhibit demonstrable, committed multi-jurisdictional support from leaders across all sectors:

i. Public (e.g., mayors, city councils, county executives, senior State leadership);

ii. Institutional (e.g., institutions of higher learning);

iii. Non-profit (e.g., chambers of commerce, development organizations); and

iv. Private (e.g., leading regional businesses, significant regional industry associations).

• Generate quantifiable positive economic outcomes.

• Make a persuasive case that the project would not have occurred “but for” EDA's investment assistance (e.g., a project in which EDA's assistance represents a substantial share of the total public infrastructure investment and which are unlikely to attract public investment absent specific and discrete EDA involvement).

2. Investments that support innovation and competitiveness:

• Develop and enhance the functioning and competitiveness of leading and emerging industry clusters in an economic region.

• Advance technology transfer from research institutions to the commercial marketplace.

• Bolster critical infrastructure (e.g., transportation, communications, specialized training) to prepare economic regions to compete in the world-wide marketplace.

• Leverage local partnerships and other Federal programs (e.g., Economic Development District Organizations, Trade Adjustment Assistance Centers, Small Business Development Centers, Federally authorized regional economic development commissions, University Centers, the U.S. Department of Labor's Workforce Innovation in Regional Economic Development (WIRED) initiative) that increase the project's probability of success, as well as its probability of bringing substantial benefits to the distressed community in which it is located.

3. Investments that encourage entrepreneurship:

• Cultivate a favorable entrepreneurial environment consistent with regional strategies.

• Enable economic regions to identify innovative opportunities, including use of business incubators, to promote growth-oriented small and medium-size enterprises.

• Promote community and faith-based entrepreneurship programs aimed at improving economic performance in an economic region.

• Link the economic benefits of the project to the distressed community in which it is located.

4. Investments that support strategies that link regional economies with the global marketplace:

• Enable businesses and local governments to understand that ninety-five (95) percent of our potential customers do not live in the United States.

• Enable businesses, local governments and key institutions (e.g., institutions of higher education) to understand and take advantage of the numerous free trade agreements.

• Enable economic development professionals to develop and implement strategies that reflect the competitive environment of the 21st Century global marketplace.

The Department of Commerce Pre-Award Notification Requirements for Grants and Cooperative Agreements: The administrative and national policy requirements for all Department of Commerce awards, contained in the Department of Commerce Pre-Award Notification Requirements for Grants and Cooperative Agreements, published in the Federal Register on February 11, 2008 (73 FR 7696), are applicable to this solicitation.

Paperwork Reduction Act: This document contains collection-of-information requirements subject to the Paperwork Reduction Act (PRA). The use of Form ED-900 (Application for Investment Assistance) has been approved by the Office of Management and Budget (OMB) under the Control Number 0610-0094. The use of Forms SF-424 (Application for Financial Assistance), SF-424A (Budget Information—Non-Construction Programs), SF-424B (Assurances—Non-Construction Programs), SF-424C (Budget Information—Construction Programs), and SF-424D (Assurances—Construction Programs) has been approved under OMB Control Numbers 4040-0004, 0348-0044, 4040-0007, 4040-0008, and 4040-0009, respectively. The Form CD-346 (Applicant for Funding Assistance) is approved under OMB Control Number 0605-0001, and Form SF-LLL (Disclosure of Lobbying Activities) is approved under OMB Control Number 0348-0046. Notwithstanding any other provision of law, no person is required to respond to, nor shall any person be subject to a penalty for failure to comply with, a collection of information subject to the requirements of the PRA unless that collection of information displays a currently valid OMB Control Number.

Executive Order 12866 (Regulatory Planning and Review): This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: March 5, 2009.
Dennis Alvord,
Acting Deputy Assistant Secretary for Economic Development and Chief Operating Officer.

[FR Doc. E9-5081 Filed 3-9-09; 8:45 am]

BILLING CODE 3510-24-P